DEPARTMENT OF THE INTERIOR

Bureau of Land Management

[WO-220-1020-PM-24 1A]

Extension of Approved Information Collection, OMB Control Number 1004-0051

AGENCY: Bureau of Land Management, Interior.

ACTION: Notice and request for comments.

SUMMARY: In accordance with the Paperwork Reduction Act of 1995, the Bureau of Land Management (BLM) is requesting the Office of Management and Budget (OMB) to extend an existing approval to collect certain information from permittees and lessees on the actual grazing use by their livestock. BLM uses Form 4130-5, Actual Grazing Use Report, to collect this information. This information allows BLM to compute fees for the amount of forage authorized grazing livestock consume by area and period.

DATES: You must submit your comments to BLM at the address below on or before April 8, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0051” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Ken Visser on (202) 452-7743 (Commercial or FTS). Persons who use a telecommunications device for the deaf (TDD) may call the Federal Information Relay Service at 1-800-877-8330, 24 hours a day, seven days a week, to contact Mr. Visser.

SUPPLEMENTARY INFORMATION: 5 CFR 1320.12(a) requires BLM to provide 60-day notice in the Federal Register concerning a collection of information contained in regulations in 43 CFR part 4130 to solicit comments on:

(a) Whether the proposed collection of information is necessary for the proper functioning of the agency, including whether the information will have practical utility;

(b) The accuracy of our estimates of the information collection burden, including the validity of the methodology and assumptions we use;

(c) Ways to enhance the quality, utility, and clarity of the information collected; and

(d) Ways to minimize the burden of the information collection on those who are to respond, including the use of appropriate automated, electronic, mechanical, or other technological collection techniques or other forms of information technology.

The Taylor Grazing Act (TGA) of 1934 (43 U.S.C. 315, 315 et seq.), the Federal Land Policy and Management Act (FLPMA) of 1976 (43 U.S.C. 1701 et seq.), and the Public Rangelands Improvement Act (PRIA) of 1978 (43 U.S.C. 1901 et seq.) provide the authority for the BLM to administer the livestock grazing program consistent with land-use plans, multiple-use objectives, sustained yield, environmental values, economic considerations, and other factors. BLM administers the grazing program, generally, by issuing grazing permits or leases that specify allowable livestock use by location, number and period. BLM recognizes that to sustain and conserve resources, minor annual adjustments of grazing terms and conditions as specified on a multi-year term permit or lease are needed to balance actual grazing use with available forage and water. Therefore, rather than relying solely upon the terms and conditions of the permit or lease as a record of the use made during any one year, BLM can require permittees or lessees to submit information that more accurately reflects the grazing use. Sections 3 and 15 of the TGA and the regulation at 43 CFR 4130.3-2(d) provide that BLM may require permittees or lessees to furnish a record of their actual grazing use. The regulation (43 CFR 4130.8-1(e)) provides for a grazing fee payment after the grazing season under specified circumstances. Lessees or permittees submit grazing use information on the Form 4130-5, Actual Grazing Use Report.

BLM uses this information for two specific purposes:

a. To calculate the fees due for the grazing use completed. Fees are due the United States when BLM issues a billing notice and must be paid in full prior to grazing use, except when an allotment management plan (AMP) provides for delayed payment and it is incorporated into a grazing permit or lease. In this latter situation, BLM will issue a billing notice based upon the actual grazing use completed at the end of the grazing period or year (43 CFR 4130.8-1(e)). BLM uses the information it collects to bill for grazing use or to make up a part of the allotment monitoring records. The permittee and lessee must keep accurate and current records for the period of time his/her permit or lease covers. The information collected includes allotment and pasture location of the grazing, the date and numbers of livestock permitted on or removed from the range, and the kind or class of livestock grazed.

b. To obtain information needed to monitor and evaluate livestock grazing use. The purposes of the information are to determine if adjustments in the amount of use are needed, or if other management actions could achieve the desired effects. Knowledge of actual livestock grazing use is essential in the monitoring and the evaluation of the livestock grazing management program. Information on the specific use is essential for an accurate and complete analysis and evaluation of the effects of livestock grazing during particular periods of time, as interrelated with other factors such as climate, growth characteristics of the vegetation, and utilization levels on the plants.

Without this information, the BLM could not fulfill its legal responsibility to manage uses of the public land as required by law. The required information is only available from the grazing operators. Because the actual grazing use that occurs is not constant from year to year, BLM requires information for each grazing season for which grazing use is sought.

Based on BLM's experience administering the activities described above, we estimate the average public reporting burden to complete the required information is 25 minutes per response. Because of the variations in size and complexity or range livestock operations, some of the 15,000 responses may take a few minutes in one recording session to complete the form, while others may take up to 60 minutes combined through several sessions during the grazing year, with each requiring a few minutes to enter the required data. The respondents include permittees and lessees required to furnish a record of the actual grazing use. The frequency of response is annually. We estimate the number of responses per year is 15,000 and a total annual burden of 6,250 hours.

BLM will summarize all responses to this notice and include them in the request for OMB approval. All comments will become a matter of public record.

Dated: February 3, 2003.
Michael H. Schwartz,
Bureau of Land Management, Information Collection Clearance Officer.

[FR Doc. 03-3013 Filed 2-6-03; 8:45 am]

BILLING CODE 4310-84-M